DEPARTMENT OF COMMERCE

Foreign-Trade Zones Board

[Order No. 1484]

Approval for Expansion of Subzone 35B, Merck & Company, Inc., (Pharmaceutical Products), West Point, Pennsylvania

Pursuant to its authority under the Foreign-Trade Zones Act of June 18, 1934, as amended (19 U.S.C. 81a-81u), the Foreign-Trade Zones Board (the Board) adopts the following Order:

WHEREAS, the Philadelphia Regional Port Authority, grantee of FTZ 35, has requested authority on behalf of Merck & Company, Inc. (Merck), to expand the subzone and scope of manufacturing authority in terms of capacity at Subzone 35B at the Merck pharmaceutical manufacturing plant in West Point, Pennsylvania (FTZ Docket 61-2005, filed 12/7/05); and,

WHEREAS, notice inviting public comment has been given in the Federal Register (70 FR 74290, 12/15/05);

WHEREAS, the Board adopts the findings and recommendations of the examiner's report, and finds that the requirements of the FTZ Act and the Board's regulations are satisfied, and that approval of the application is in the public interest;

NOW, THEREFORE, the Board hereby approves the expansion of the subzone and the scope of authority under zone procedures in terms of capacity within Subzone 35B for the manufacture of pharmaceutical products at the Merck & Company, Inc., plant located in West Point, Pennsylvania, as described in the application and the Federal Register notice, subject to the FTZ Act and the Board's regulations, including § 400.28.

Signed at Washington, DC, this 20th day of October 2006.

David M. Spooner,
Assistant Secretary of Commerce For Import Administration, Alternate Chairman Foreign-Trade Zones Board.
Attest:
Pierre V. Duy,
Acting Executive Secretary.

[FR Doc. E6-17972 Filed 10-25-06; 8:45 am]

BILLING CODE 3510-DS-S